DEPARTMENT OF TRANSPORTATION

Federal Motor Carrier Safety Administration

[Docket No. FMCSA-2024-0109]

Agency Information Collection Activities; Approval of a New Information Collection Request: FMCSA Registration System (FRS)

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA is replacing its Unified Registration System (URS), with a new, online registration system, which will be named the “FMCSA Registration System” (FRS). The new system will allow all persons required to register under the Agency's commercial or safety jurisdiction to do so online.

DATES: Comments on this notice must be received on or before September 27, 2024.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Mr. Jeffrey Secrist, Office of Registration, Chief, Registration Division, DOT, FMCSA, West Building, 6th Floor, 1200 New Jersey Avenue SE, Washington, DC 20590; (202) 385-2367; jeff.secrist@dot.gov.

SUPPLEMENTARY INFORMATION:

Title: FMCSA Registration System.

OMB Control Number: 2126-00XX.

Type of Request: New ICR.

Respondents: Motor carriers, freight forwarders, brokers, and other entities regulated by the Agency.

Estimated Number of Respondents: 764,582.

Estimated Time per Response: Varies.

Expiration Date: This is a new ICR.

Frequency of Response: Annually.

Estimated Total Annual Burden: 583,306 Hours.

This new ICR will apply to: new registrants applying for safety and/or operating authority registration for the first time from FMCSA; existing registrants (i.e., entities that already have a USDOT number and/or operating authority) that are subject to FMCSA's registration and certification regulations that wish to apply for additional authorities; Mexico-domiciled carriers that wish to operate beyond the U.S. municipalities on the U.S.-Mexico border and their commercial zones; registrants seeking to process name changes, address changes, and reinstatements of operating authority for motor carriers, freight forwarders, and brokers; registrants which are requesting to voluntarily suspend their safety and/or operating authority registration with FMCSA; and motor carriers, brokers and freight forwarders that must designate an agent on whom service of notices in proceedings before the Secretary may be made. It will also apply to designated agents and those entities providing proof of financial responsibility requirements, such as insurance companies and bond agents. Four comments were received in response to the 60-day Federal Register notice. This 30-day FR notice corrects the number of respondents stated in the 60-day FR, and hence the estimated burden hours calculated and stated in the 60-day FR, after FMCSA realized the most current data was not applied.

Background

FMCSA registers for-hire motor carriers of regulated commodities and of passengers, under 49 United States Code (U.S.C.) 13902(a); surface freight forwarders, under 49 U.S.C. 13903; property brokers, under 49 U.S.C. 13904; certain Mexico-domiciled motor carriers, under 49 U.S.C. 13902(c), and cargo tank motor vehicle manufacturers, assemblers, repairers, inspectors, testers, and design certifying engineers under 49 U.S.C. 5121a, 49 CFR 1.87, and 49 CFR part 107, subpart F. These motor carriers may conduct transportation services in the United States only if they are registered with FMCSA. Each registration is effective from the date specified and remains in effect for such period as the Secretary of Transportation (Secretary) determines by regulations.

Motor carriers, freight forwarders, and property brokers are required to request a name or address change and to request reinstatement of a revoked operating authority. Procedures for changing the name or business form of a motor carrier, freight forwarder, or property broker (§ 365.413T) require that motor carriers, forwarders, and brokers must submit the required information to FMCSA's Office of Registration requesting the change.

Subsection (d) of 49 U.S.C. 13905 also provides that on application of the registrant, the Secretary may amend or revoke a registration, and hence the registrant's operating authority. These registrants may apply to voluntarily revoke their operating authority or parts thereof. If the registrant fails to maintain evidence of the required level of insurance coverage on file with FMCSA, its operating authority will be revoked involuntarily. Although the effect of both types of revocation is the same, some registrants prefer to request voluntary revocation. For various business reasons, a registrant may request revocation of part, but not all, of its operating authority.

Registered motor carriers, brokers, and freight forwarders must designate an agent on whom service of notices in proceedings before the Secretary may be made (49 U.S.C. 13303). Registered motor carriers must also designate an agent for every State in which they operate and traverse in the United States during such operations, on whom process issued by a court may be served in actions brought against the registered motor carrier (49 U.S.C. 13304, § 366.4T). Every broker shall make a designation for each State in which its offices are located or in which contracts are written (49 U.S.C. 13304, § 366.4T). Regulations governing the designation of process agents are found at 49 CFR part 366.

FMCSA requests information to identify the applicant, the nature and scope of its proposed operations, safety-related details, and information regarding the drivers and vehicles it plans to use in U.S. operations. FMCSA and the States use registration information collected to track motor carriers, freight forwarders, brokers, and other entities they regulate. Registering motor carriers is essential to being able to identify carriers so that their safety performance can be tracked and evaluated. The data makes it possible to link individual trucks to the responsible motor carrier, thus implementing the mandate under 49 U.S.C. 31136(a)(1); that is, ensuring that commercial motor vehicles are maintained and operated safely. In general, registration information collected informs prioritization of the Agency's activities and aids in assessing and statistically analyzing the safety outcomes of those activities.

The final rule titled “Unified Registration System,” (78 FR 52608) dated August 23, 2013, implemented statutory provisions for an online registration system for entities that are subject to FMCSA's licensing, registration, and certification regulations. When developing URS, FMCSA planned that the OP-1 series of forms (except for OP-1(MX)) would ultimately be folded into one overarching form (MCSA-1), which would be used by all motor carriers seeking authority.

FMCSA began a phased rollout of URS in 2015. The first phase, which became effective on December 12, 2015, impacted only first-time applicants seeking an FMCSA-issued registration. FMCSA had planned subsequent rollout phases for existing registrants; however, there were substantial delays, and subsequent phases have not been rolled out to date. On January 17, 2017, FMCSA issued a final rule titled “Unified Registration System; Suspension of Effectiveness,” which indefinitely suspended URS effectiveness dates for existing registrants only (82 FR 5292).

Pursuant to this final rule, FMCSA was accepting forms OP-1, OP-1(P), OP-1(FF), and OP-1(NNA) for existing registrants wishing to apply for additional authorities. Separately, FMCSA requires Form OP-1(MX) for Mexico-domiciled carriers that wish to operate beyond the U.S. municipalities on the U.S.-Mexico border and their commercial zones. Forms in the OP-1 series request information to identify the applicant, the nature and scope of its proposed operations, a narrative description of the applicant's safety policies and procedures, and information regarding the drivers and vehicles it plans to use in U.S. operations. The OP-1 series also requests information on the applicant's familiarity with relevant safety requirements, the applicant's willingness to comply with those requirements during its operations, and the applicant's willingness to meet any specific statutory and regulatory requirements applicable to its proposed operations. Information collected through these forms aids FMCSA in determining the type of operation a company may run, the cargo it may carry, and the resulting level of insurance coverage the applicant will be required to obtain and maintain to continue its operating authority.

In addition, FMCSA accepted Form MCS-150 (Motor Carrier Identification Report, Application for USDOT Number), Form MCS-150B (Combined Motor Carrier Identification Report and Hazardous Materials Permit Application), and MCS-150C (Intermodal Equipment Provider Identification Report, Application for USDOT Number). Title 49, U.S.C. 504(b)(2) provides the Secretary with authority to require carriers, lessors, associations, or classes of these entities to file annual, periodic, and special reports containing answers to questions asked by the Secretary. Existing registrants use the MCS-150 or MCS-150B to update their information in the Motor Carrier Management Information System, while applicants filing for the first time were required to file on-line using URS. Form MCS-150 or MCS-150B is also used for Mexico-domiciled carriers that seek authority to operate beyond the United States municipalities on the United States-Mexico border and their commercial zones.

Registered motor carriers, brokers, and freight forwarders must designate an agent on whom service of notices in proceedings before the Secretary may be made through filing the Form BOC-3, Designation of Agents for Service of Process. Registered motor carriers must designate an agent for every State in which they operate and traverse in the United States during such operations, on whom process issued by a court may be served in actions brought against the registered motor carrier (49 U.S.C. 13304, § 366.4T). Every broker must also make a designation for each State in which its offices are located or in which contracts are written (49 U.S.C. 13304, § 366.4T).

New Collection: As described above, only first-time applicants seeking an FMCSA-issued registration must apply for authority via URS, while existing registrants used several forms to update their information, apply for additional authorities, and designate process agents. Under the new FRS, all forms described above will be integrated into the online system through a series of questions that will be asked, using smart logic. The only exception will be the Form OP-2, Application for Mexican Certificate of Registration for Foreign Motor Carriers and Foreign Motor Private Carriers under 49 U.S.C. 13902. Information collection activities associated with the Form OP-2 are covered under a different ICR, titled “Application for Certificate of Registration for Foreign Motor Carriers and Foreign Motor Private Carriers,” OMB Control No. 2126-0019, which will continue in effect.

This new ICR impacts several currently approved collections of information, listed below. However, until the new FRS is completed, FMCSA cannot estimate the burden, in hours or expense, that FRS users will be required to endure in comparison to the burdens associated for the approved collections listed below. FMCSA is developing FRS in such a way as to save users as much time as possible. However, FMCSA expects that, at worst, the time and effort required to complete an application, update, or process agent designation in FRS will be the same as it is to complete in the URS or using a paper form. Thus, for purposes of this new collection, FMCSA assumes the same time and cost burdens as were previously listed in the approved collections. In the future, during routine renewals and/or revisions for this new collection, and as FMCSA gathers information on average time per transaction in FRS, FMCSA expects to be able to refine these estimates.

It is expected that FMCSA will eliminate the following collections, along with all associated forms, as users will instead use the FRS to collect the information previously submitted using the listed forms. However, until FMCSA completes a regulatory change to remove reference to these forms from regulation, registrants may continue to use these forms to request the appropriate registration action.

Information collection approval number | Information collection title | Associated forms | New FRS series of questions using smart logic for each information collection (IC)
2126-0051 | FMCSA Registration/Updates | MCSA-1 | IC-1
2126-0016 | Licensing Applications for Motor Carriers Operating Authority | OP-1 series | IC-2
2126-0013 | Motor Carrier Identification Report | MCS-150, MCS-150B and MCS-150C | IC-3
2126-0060 | Motor Carrier Records Change Form | MCSA-5889 | IC-4
2126-0018 | Request for Revocation of Authority Granted | OCE-46 | IC-5
2126-0015 | Designation of Agents, Motor Carriers, Brokers, and Freight Forwarders | BOC-3 | IC-6

Efforts to address fraudulent information from appearing on registration records. FMCSA has seen a significant increase in the occurrence of fraudulent activity where erroneous information about a registered entity is being used, resulting in cargo and monetary theft in the motor carrier industry. Examples of fraudulent activity include identity theft, hijacking FMCSA motor carrier accounts, selling of motor carrier numbers, personal identification numbers, and fraudulent or fake initial registrations. The current legacy registration system lacks the ability to validate identity before registration processing, which is leading to fraudulent registrations and theft. A portion of the recent fraudulent activities also includes foreign actors. In response, FMCSA has significantly increased efforts to combat external fraud and understand the scope of the issue.

As part of the new FRS, FMCSA plans to verify individuals' identities by establishing a secure and reliable process that utilizes an identity-proofing solution. This will improve the overall resilience of the Agency's digital ecosystems, promote user confidence, and ensure that only verified entities register with FMCSA and gain access to their data. FMCSA will develop measures to verify and secure individuals' identities in the digital space through an identity-proofing solution that supports omni-channel onboarding. This means customers may use different channels such as remotely using a smartphone, tablet, or personal computer, or alternatively, in-person assistance via agents, to verify their identity. The identity-proofing solution will interface with existing FMCSA applications using either application programming interfaces (APIs) or lightweight connectors, which do not require extensive development resources for FMCSA. Based on FMCSA's research, the contracted verification system has a user-friendly interface and experience that allows for seamless interaction during the identity-proofing process—promoting ease of use for both administrators and customers.

To complete the verification process, an applicant must: (1) transmit a photo of a valid state-issued Driver's License or other acceptable forms of identification and (2) use their personal mobile device for facial recognition verification. The contracted vendor will validate the customer's form of identification, confirm the identity of the individual, and compare the results with data in their existing databases. Customers who are unable or unwilling to verify their identity using digital means (e.g., mobile phone or computer), may go in-person to one of the sanctioned support centers and undergo the process of identity verification with the assistance of an agent. FMCSA will determine the number of support centers available. The contractor will send the results of the verification to FMCSA allowing the customer to move forward with the FMCSA registration process. Once the verification process is complete, the contractor will delete any collected personal-identifiable information (PII) and only share the transaction result with FMCSA. The result will not include any PII.

FMCSA will begin with identity proofing, verifying the identity of all new applicants, as well as the approximately 800,000 existing registrants within a designated timeframe. Later, the Agency will initiate a process for verifying the business which is being registered by the individual. FMCSA estimates that the government conducts approximately 3.5 million transactions annually for motor carrier registration and compliance-related purposes that would require identity proofing.

The current information collection supports the DOT Strategic Goal of Safety. It streamlines registration processes and ensures that FMCSA can more efficiently track motor carriers, freight forwarders, brokers, and other entities regulated by the Agency.

On April 19, 2024, FMCSA published a 60-day Federal Register notice (89 FR 28841) with a 60-day public comment period to announce its intention to submit this new ICR to OMB for its review and approval. FMCSA received four comments from the public. A property management company commented with concerns about sole proprietorships which are not always required to register with the Secretary of State in some states. Another individual commented on the urgency of fraudulent activity as it relates to cargo theft and efforts to enforce existing laws. Both comments are not applicable to this ICR, but FMCSA will consider them in a related rulemaking action and in its development of the FRS.

One comment was submitted by the firms of Seaton & Husk, L.P. and Clark Hill PLC on behalf of a coalition of transportation, logistics, and security organizations. These stakeholders expressed concern that the FRS proposal was premature and could not be artificially separated from currently pending proposals to amend motor carrier, broker, and forwarder registration requirements relating to safety fitness and prevention of fraud. The stakeholders commended FMCSA for recognizing that closer scrutiny of registration applications is necessary to prevent supply chain fraud ranging from identity theft to stolen loads. However, the commenters stated the FRS questionnaire alone would not be nearly enough unless backed up by hands-on vetting and verification of applicants before operating authority is granted. The commenters request that implementation of the new application be postponed because: (1) the Agency's acknowledgement during its May 29, 2024, listening session that additional rulemaking would be required to vet existing carriers and intermediaries, regardless of commodity or size of equipment; (2) pending rulemakings which are intended to address the need for vetting all new applicants for safety; (3) the absence of clarity on the FMCSA's role in identifying, policing, and prosecuting supply chain fraud; and (4) pending congressional initiatives and the unaddressed possibility of inter-agency coordination to address supply chain fraud with the full implementation of government resources.

FMCSA reviewed the comments submitted by the coalition and finds the comments are not applicable to requesting OMB review and approval of this ICR, which will impact several currently approved information collections. Under FRS, these forms will be integrated into the online system through a series of questions that will be asked, using smart logic. None of the coalition's comments relate to either the currently approved forms or the idea of consolidating them into one, online system. FMCSA will consider the coalition's comments as they relate to other, ongoing actions.

One comment was received from the American Trucking Associations (ATA) and ATA's Moving and Storage Conference (MSC). ATA supports FMCSA's transition to a modernized online registration system, as well as its efforts to bolster the safety, security, and efficiency of its existing carrier registration system. ATA provided recommendations and considerations to further strengthen the system against fraudulent activities, including: (1) streamline access and use for legitimate carriers without undue regulatory hurdles; (2) enhance identity verification and security measures; (3) improve data quality and accessibility; (4) operating authority and USDOT number issuance; (5) establish thresholds for entry; (6) FMCSA Registration System implementation; and (7) create an ecosystem of fraud prevention beyond registration system. ATA called for FMCSA to dedicate resources to better understanding and identifying sources of fraud, their prevalence, and the extent to which fraudulent practices are committed by individuals acting within legitimate organizations (i.e., brokers, freight forwarders, third parties, and intermediaries involved in the application process). ATA expressed FMCSA must commit to a culture of continuous improvement and comprehensive prevention efforts beyond the scope of an updated registration system to ensure long-term success and registration satisfaction.

FMCSA reviewed the comments submitted by ATA and MSC and finds the recommendations and considerations listed above are not applicable to requesting OMB review and approval of this ICR. However, FMCSA will consider these comments as it takes advantage of the new, enhanced technology and system design, adds fraud prevention and security measures, simplifies a complex application process, and improves data quality and safety.

Public Comments Invited

You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator Office of Research and Registration.

[FR Doc. 2024-18946 Filed 8-27-24; 8:45 am]

BILLING CODE 4910-EX-P